CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed collection request for the National Evaluation of School-Based Learn and Serve America Teacher Recruitment Process. The Teacher Recruitment Process will identify and recruit teachers for participation in the National Evaluation of School-Based Learn and Serve America. The sample of teachers for recruitment will be selected based on interviews with district administrators and school principals. Selection will be limited to teachers in schools that have implemented or are implementing Learn and Serve America funded service-learning programs. Teachers identified by administrators and principals as those that have implemented high quality service-learning projects will be asked to complete a Teacher Information Form, which will collect information on the types of courses in which teachers have and will implement service-learning projects and the extent to which past service-learning projects have incorporated standards for high quality service-learning. Participation in the information collection is voluntary and will not be used in grant funding decisions.

Copies of the information collection request can be obtained by contacting the office listed in the addresses section of this notice.

DATES: Written comments must be submitted to the individual and office listed in the ADDRESSES section by July 12, 2010.

ADDRESSES: You may submit comments, identified by the title of the information collection activity, by any of the following methods:

(1) By mail sent to: Corporation for National and Community Service, Office of Research and Policy Development; Attention Kimberly Spring, Policy Analyst, Room 10906B; 1201 New York Avenue, NW., Washington, DC 20525.

(2) By hand delivery or by courier to the Corporation's mailroom at Room 8100 at the mail address given in paragraph (1) above, between 9 a.m. and 4 p.m. Monday through Friday, except Federal holidays.

(3) By fax to: (202) 606-3464, Attention: Kimberly Spring, Policy Analyst.

(4) Electronically through the Corporation's e-mail address system: kspring@cns.gov. Individuals who use a telecommunications device for the deaf (TTY-TDD) may call (202) 606-3472 between 8:30 a.m. and 5 p.m. eastern time, Monday through Friday.

FOR FURTHER INFORMATION CONTACT: Kimberly Spring, (202) 606-6629, or by e-mail at kspring@cns.gov.

SUPPLEMENTARY INFORMATION:

The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background:

The Corporation is implementing the National Evaluation of School-Based Learn and Serve America Program in response to the Edward M. Kennedy Serve America Act (H.R. 1288) legislative mandate to assess the impact of activities carried out under the Learn and Serve America Program. The Teacher Recruitment Process will be used to identify and recruit teachers to participate in the study. Teachers identified by administrators and principals from districts and schools that received Learn and Serve School-Based Formula grant funds as teachers that have implemented high quality service-learning projects will be asked to complete the survey. Survey response is voluntary. The information will be collected via in-person and telephone interviews.

Current Action:

This is a new information collection request. The Teacher Recruitment Process will collect information on the types of courses in which teachers have and will implement service-learning projects and the extent to which past service-learning projects have incorporated standards for high quality service-learning.

Type of Review: New.

Agency: Corporation for National and Community Service.

Title: National Evaluation of School-Based Learn and Serve America Program Teacher Recruitment Process.

OMB Number: None.

Agency Number: None.

Affected Public: Public school district administrators, principals, and teachers.

Total Respondents: 545.

Frequency: Once.

Average Time per Response: 1.3 hours.

Estimated Total Burden Hours: 702.5 hours.

Total Burden Cost (capital/startup): None.

Total Burden Cost (operating/maintenance): None.

Comments submitted in response to this notice will be summarized and/or included in the request for Office of Management and Budget approval of the information collection request; they will also become a matter of public record.

Dated: May 4, 2010.
Nathan Dietz,
Research Associate/Statistician, Office of Research and Policy Development.

[FR Doc. 2010-11066 Filed 5-10-10; 8:45 am]

BILLING CODE 6050-$$-P